DEPARTMENT OF COMMERCE

International Trade Administration

[A-549-502]

Certain Welded Carbon Steel Pipes and Tubes from Thailand: Notice of Rescission of Antidumping Duty Administrative Review for the Period March 1, 2003 through February 29, 2004

AGENCY: Import Administration, International Trade Administration, U.S. Department of Commerce.

SUMMARY: In response to timely requests from Saha Thai Steel Pipe Co., Ltd. (“Saha Thai”), a producer/exporter of the subject merchandise, and two domestic producers, Allied Tube & Conduit Corp. and Wheatland Tube Co. (collectively, “the petitioners”), the Department of Commerce (the Department) initiated an administrative review of the antidumping duty order on certain welded carbon steel pipes and tubes from Thailand, covering the period of March 1, 2003, through February 29, 2004. See Initiation of Antidumping and Countervailing Duty Administrative Reviews, 69 FR 23170 (April 28, 2004). Because all requests for an administrative review have been withdrawn, the Department is rescinding this review of certain welded carbon steel pipes and tubes from Thailand, in accordance with section 351.213(d)(1) of the Department's regulations.

EFFECTIVE DATE: August 10, 2004.

FOR FURTHER INFORMATION CONTACT: Javier Barrientos or Mark Hoadley, Office of AD/CVD Enforcement 7, Import Administration, International Trade Administration, U.S. Department of Commerce, 14th Street and Constitution Avenue, N.W., Washington D.C. 20230; telephone: (202) 482-2243 or (202) 482-3148, respectively.

SUPPLEMENTARY INFORMATION:

Background

Based on timely requests from Saha Thai and the petitioners, the Department initiated an administrative review of the antidumping duty order on certain welded carbon steel pipes and tubes from Thailand. See Initiation of Antidumping and Countervailing Duty Administrative Reviews, 69 FR 23170 (April 28, 2004) (Initiation Notice). Saha Thai was the only company included in the Initiation Notice with respect to the instant review.

Rescission of the Administrative Review

Pursuant to the Department's regulations, the Department may rescind an administrative review “if a party that requested the review withdraws the request within 90 days of the date of publication of notice of initiation of the requested review.” See 19 CFR 351.213(d)(1). In accordance with this section of the Department's regulations, all parties that requested a review in the instant proceeding submitted timely withdrawals of their request for an administrative review (April 30, 2004, by the petitioners, and July 6, 2004, by Saha Thai).

Since there were no other requests for review from any other interested party, the Department finds it appropriate to accept these withdrawal requests and is rescinding the review of Saha Thai, covering the period of March 1, 2003, through February 29, 2004, in accordance with section 351.213 (d)(1) of the Department's regulations. The Department will issue appropriate assessment instructions directly to U.S. Customs and Border Protection (CBP) within 15 days of publication of this notice. The Department will direct CBP to assess antidumping duties for Saha Thai at the cash deposit rate in effect on the date of entry for entries during the period March 1, 2003, through February 29, 2004.

Notification to Importers

This notice also serves as a reminder to importers of their responsibility under section 351.402(f)(2) of the Department's regulations to file a certificate regarding the reimbursement of antidumping duties prior to liquidation of the relevant entries during this review period. Failure to comply with this requirement could result in the Secretary's presumption that reimbursement of antidumping duties occurred and the subsequent assessment of double antidumping duties.

APO Notification

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This determination and notice are issued and published in accordance with sections 751(a)(1) and 777(i)(1) of the Act and 19 CFR 351.213(d)(4).

Dated: August 3, 2004.
Jeffrey A. May,
Deputy Assistant Secretaryfor Import Administration, Group I.

[FR Doc. 04-18263 Filed 8-9-04; 8:45 am]

BILLING CODE 3510-DS-S